FEDERAL MARITIME COMMISSION

[Docket No. 13-03]

Seagull Maritime Agencies Private Ltd. v. Gren Automotive, Inc., Centrus Automotive Distributors Inc., and Liu Shao, Individually; Notice of Filing of Complaint and Assignment

Notice is given that a complaint has been filed with the Federal Maritime Commission (Commission) by Seagull Maritime Agencies Private Limited (“SMA”), hereinafter “Complainant,” against Gren Automotive, Inc. (“Gren”), Centrus Automotive Distributors Inc. (“Centrus”) and Mr. Liu Shao hereinafter “Respondents.” Complainant states that it is an FMC licensed non-vessel operating common-carrier (“NVOCC”) located in New Jersey. Complainant alleges that Respondent Gren is a New Jersey corporation and Respondent Centrus is or was a Florida corporation.

Complainant alleges that Respondents, by failing to pay Complainant $63,010.68 owed for “transportation, customs duties, and other services,” violated 46 U.S.C. 41102(a) which provides that “[a] person may not knowingly and willfully, directly or indirectly, by means of false billing, false classification, false weighing, false report of weight, false measurement, or any other unjust or unfair device or means, obtain or attempt to obtain ocean transportation for property at less than the rates or charges that would otherwise apply.”

Complainant requests that the Commission issue the following relief: “(1) An Order compelling Respondents to Answer the charges made herein and scheduling a hearing in Washington, DC during which the Commission may receive evidence in this matter; (2) An Order holding that the Respondents, Centrus, Gren, and Mr. Liu Shao individually violated § 41102(a) of the Shipping Act; (3) An Order compelling Respondents, Centrus, Gren, and Liu Shao individually to make reparations to Complainant SMA in the amount of $63,010.68 for failure to pay freight and related charges as describe herein; (4) An Order requiring Respondents to compensate SMA for its attorney's fees, interests, and costs and expenses incurred in this matter according to proof; (5) Such other and further relief as the Commission deems just and proper.”

The full text of the complaint can be found in the Commission's Electronic Reading Room at www.fmc.gov/13-03.

This proceeding has been assigned to the Office of Administrative Law Judges. The initial decision of the presiding officer in this proceeding shall be issued by March 3, 2014 and the final decision of the Commission shall be issued by July 1, 2014.

Rachel E. Dickon,
Assistant Secretary.

[FR Doc. 2013-05253 Filed 3-5-13; 8:45 am]

BILLING CODE 6730-01-P